DEPARTMENT OF DEFENSE

Corps of Engineers, Department of the Army

Intent To Prepare a Draft Environmental Impact Statement (DEIS) For a Central Everglades Planning Project Post Authorization Change Report for the Everglades Agricultural Area Reservoir, Florida

AGENCY: U.S. Army Corps of Engineers, DoD.

ACTION: Notice of intent.

SUMMARY: The South Florida Water Management District (SFWMD) has prepared a feasibility study and draft environmental documentation pursuant to section 203 of WRDA 1986, as amended, and on March 26, 2018 submitted that study to the Assistant Secretary of the Army for Civil Works (ASA(CW)) for review for the purpose of determining whether the study, and the process under which the study was developed, comply with Federal laws and regulations applicable to feasibility studies of water resources development projects. This notice advises the public that the U.S. Army Corps of Engineers (Corps), at the direction of the ASA(CW), intends to prepare a Draft Environmental Impact Statement (DEIS) to support the ASA(CW) review of SFWMD's study, a review which is to culminate in a report to Congressional Committees. SFWMD has described the purpose of the project that is the subject of the feasibility study as increasing the amount of water storage, treatment and conveyance in the Central Everglades Planning Project (CEPP) New Water project feature. The alternatives SFWMD identified and evaluated for its consideration are contained in Sections 3.0 and 4.0 of Volume 1 (Main Report) of SFWMD's Central Everglades Planning Project Post Authorization Change Report Feasibility Study, available on the SFWMD website: https://www.sfwmd.gov/our-work/cerp-project-planning/eaa-reservoir.

FOR FURTHER INFORMATION CONTACT: Questions about the proposed action, study and environmental documentation can be directed to: Andrew LoSchiavo, U.S. Army Corps of Engineers, Jacksonville District, Planning and Policy Division, Environmental Branch, P.O. Box 4970, Jacksonville, FL 32232-0019. 904-232-2077.

SUPPLEMENTARY INFORMATION:

1. Description of the Action Proposed by SFWMD for execution under Federal authority: According to the SFWMD, the SFWMD feasibility study reaffirms that the CEPP North and South project features can accommodate the additional flows south to the central Everglades that would result from additional canal conveyance, storage, and treatment wetlands proposed on lands within the Everglades Agricultural Area (EAA). Generally, this project would consist of the following:

• 10,500-acre reservoir providing 240,000 ac-ft storage

• 6,500-acre Stormwater Treatment Area (STA)

• Conveyance improvements to the Miami and North New River Canals increased by a total of 1,200 cfs (Miami Canal increased by 1,000 cfs and North New River Canal increased by 200 cfs)

• Multi-purpose operations as described in SFWMD's study

Please see SFWMD website for additional information on SFWMD's study not provided in this NOI: https://www.sfwmd.gov/our-work/cerp-project-planning/eaa-reservoir.

2. Description of the Reasonable Alternatives Identified by SFWMD: The alternatives SFWMD identified and evaluated for its consideration are contained in Sections 3.0 and 4.0 of Volume 1 (Main Report) of SFWMD's Central Everglades Planning Project Post Authorization Change Report Feasibility Study, available on the SFWMD website: https://www.sfwmd.gov/our-work/cerp-project-planning/eaa-reservoir.

3. Scoping Process: Formal Federal consultation will begin now that SFWMD has formally submitted the study and the environmental documentation to the ASA(CW) for review in accordance with the requirements of section 203 of WRDA 1986, as amended. In accordance with U.S. Army Corps of Engineers (Corps) regulations implementing NEPA (Engineer Regulation 200-2-2), feasibility reports for authorization and construction of major projects normally require an Environmental Impact Statement. Upon receipt of the environmental documentation, the Army has evaluated the information submitted to confirm that the SFWMD's recommended plan requires an Environmental Impact Statement (EIS). Since this is a non-federal study carried out under Section 203, the Army's determinations pursuant to section 203 and Environmental Impact Statement for this report will describe the results of the review required by Section 203(b) of the non-federal interest's feasibility study, including a determination of whether the project is feasible, any recommendations concerning the plan or design of the project, and, any conditions the Secretary may require for construction of the project.

4. The Corps is seeking participation of all interested Federal, state, and local agencies, Native American groups, and other concerned private organizations or individuals through this 15-day public notice. The purpose of the public scoping period is to solicit comments regarding the potential impacts, environmental issues, and alternatives associated with the study submitted by SFWMD; and provide other relevant information. The Corps will not hold public scoping meetings as part of this process. The public will have an additional opportunity to comment once its DEIS is released, which is anticipated to be in 2018. The Corps will announce availability of its DEIS in the Federal Register and other media, and will provide a review period for the public, organizations, and agencies to review and comment on its DEIS. All interested parties should respond to this notice and provide a current address if they wish to be notified of the DEIS circulation. As a part of the SFWMD's project development, routine interagency and stakeholder coordination meetings were conducted, providing Federal, Tribal, State, and local agencies opportunities to comment on planning assumptions, evaluation tools and methods, and alternative plans to assist with meeting NEPA public coordination requirements. Upon completion of the SFWMD study, it underwent Agency Technical Review and Independent External Peer Review, and was made available for review March 26, 2018 on the SFWMD website.

5. It is estimated that the draft environmental impact statement will be made available to the public in 2018.

Dated: April 9, 2018.
Eric Summa,
Chief, Planning and Policy Division, U.S. Army Corps of Engineers Jacksonville District.

[FR Doc. 2018-07930 Filed 4-13-18; 8:45 am]

BILLING CODE 3720-58-P